DEPARTMENT OF COMMERCE

International Trade Administration

[A-588-845; A-583-831]

Stainless Steel Sheet and Strip in Coils from Japan and Taiwan: Notice of Extension of Time Limit for Preliminary Results of the 2007-2008 Administrative Reviews

AGENCY: Import Administration, International Trade Administration, Department of Commerce.

EFFECTIVE DATE: March 13, 2009.

FOR FURTHER INFORMATION CONTACT: Rebecca Trainor or Kate Johnson (Japan) at (202) 482-4007 or (202) 482-4929, respectively, and Henry Almond (Taiwan) at (202) 482-0049, AD/CVD Operations, Office 2, Import Administration, International Trade Administration, U.S. Department of Commerce, 14th Street and Constitution Avenue, NW, Washington, DC 20230.

SUPPLEMENTARY INFORMATION:

Background

On August 26, 2008, the Department of Commerce (“the Department”) published in the Federal Register a notice of initiation of administrative reviews of the antidumping duty orders on stainless steel sheet and strip in coils from Japan and Taiwan, covering the period July 1, 2007, through June 30, 2008. See Initiation of Antidumping and Countervailing Duty Administrative Reviews, 73 FR 50308 (August 26, 2008). The preliminary results for these administrative reviews are currently due no later than April 2, 2009.

Statutory Time Limits

Section 751(a)(3)(A) of the Tariff Act of 1930, as amended (“the Act”), requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Extension of Time Limit for Preliminary Results

The Department finds that it is not practicable to complete the preliminary results of this review within the original time frame because additional information from the respondents is necessary to complete our analysis and we will not have sufficient time to obtain and analyze the new information prior to the current deadline for the preliminary results (i.e., 245 days). Furthermore, we require additional time to conduct verifications in the review of stainless steel sheet and strip in coils from Japan. Therefore, the Department is extending the time limit for completion of the preliminary results by 120 days, in accordance with section 751(a)(3)(A) of the Act. The preliminary results are now due no later than July 31, 2009. The final results continue to be due 120 days after publication of the preliminary results.

We are issuing and publishing this notice in accordance with sections 751(a)(1) and 777(i)(1) of the Act.

Dated: March 9, 2009.
John M. Andersen,
Acting Deputy Assistant Secretary for Antidumping and Countervailing Duty Operations.

[FR Doc. E9-5493 Filed 3-12-09; 8:45 am]

BILLING CODE 3510-DS-S